DEPARTMENT OF COMMERCE

International Trade Administration

[A-337-804, A-533-813, A-560-802, A-570-851]

Certain Preserved Mushrooms From Chile, India, Indonesia, and the People's Republic of China: Final Results of Expedited Sunset Reviews of Antidumping Duty Orders

AGENCY: Enforcement and Compliance, International Trade Administration, Department of Commerce.

SUMMARY: As a result of these sunset reviews, the Department of Commerce (Commerce) finds that revocation of the antidumping duty (AD) orders on certain preserved mushrooms (mushrooms) from Chile, India, Indonesia, and the People's Republic of China (China) would be likely to lead to a continuation or recurrence of dumping, at the levels identified in the “Final Results of Sunset Reviews” section of this notice.

DATES: Applicable December 4, 2020.

FOR FURTHER INFORMATION CONTACT: Brian Smith or Kate Johnson, AD/CVD Operations, Office VIII, Enforcement and Compliance, International Trade Administration, U.S. Department of Commerce, 1401 Constitution Avenue NW, Washington, DC 20230; telephone: (202) 482-1766 or (202) 482-4929, respectively.

SUPPLEMENTARY INFORMATION:

Background

On December 2, 1998, and February 19, 1999, Commerce published in the Federal Register notices of the AD order on mushrooms from Chile and the AD orders on mushrooms from India, Indonesia, and China, respectively.¹ On August 4, 2020, Commerce published the initiation of the fourth sunset review of the AD Orders on mushrooms from Chile, India, Indonesia, and China, pursuant to section 751(c) of the Tariff Act of 1930, as amended (the Act).² On August 18, 2020, Commerce received timely and complete notices of intent to participate in these sunset reviews from Giorgio Foods, Inc., L.K. Bowman Co., a division of Hanover Foods Corporation, Sunny Dell Foods, LLC, and the Mushroom Company (collectively, domestic interested parties), within the deadline specified in 19 CFR 351.218(d)(1)(i).³ The domestic interested parties claimed interested party status within the meaning of section 771(9)(C) of the Act as U.S. producers in the United States of the domestic like product.⁴

¹ See Notice of Antidumping Duty Order: Certain Preserved Mushrooms from Chile, 63 FR 66529 (December 2, 1998); Notice of Amendment of Final Determination of Sales at Less Than Fair Value and Antidumping Duty Order: Certain Preserved Mushrooms from India, 64 FR 8311 (February 19, 1999); Notice of Antidumping Duty Order: Certain Preserved Mushrooms from Indonesia, 64 FR 8310 (February 19, 1999); and Notice of Amendment of Final Determination of Sales at Less Than Fair Value and Antidumping Duty Order: Certain Preserved Mushrooms from the People's Republic of China, 64 FR 8308 (February 19, 1999). The AD orders on Chile, India, Indonesia, and China are collectively referred to as AD Orders.

² See Initiation of Five-Year (Sunset) Reviews, 85 FR 47185 (August 4, 2020).

³ See Domestic Interested Parties' Letter, “Five-Year (“Sunset”) Review of Antidumping Duty Orders on Certain Preserved Mushrooms from Chile, India, Indonesia, and the People's Republic of China—Domestic Interested Parties' Notice of Intent to Participate,” dated August 18, 2020 (Intent to Participate).

⁴ See Intent to Participate at 3.

On September 2, 2020, the domestic interested parties filed timely and adequate substantive responses, within the deadline specified in 19 CFR 351.218(d)(3)(i).⁵ Commerce did not receive substantive responses from any respondent interested party with respect to any of the AD Orders covered by these sunset reviews. As a result, pursuant to section 751(c)(3)(B) of the Act and 19 CFR 351.218(e)(1)(ii)(C)(2), Commerce conducted expedited (120-day) sunset reviews of the AD Orders.

⁵ See Domestic Interested Party's Letters, “Five-Year (Fourth Sunset) Review of Antidumping Duty Order on Certain Preserved Mushrooms from Chile—Domestic Interested Parties' Substantive Response to Notice of Initiation,” dated September 2, 2020; “Five-Year (Fourth Sunset) Review of the Antidumping Duty Order on Certain Preserved Mushrooms from India—Domestic Interested Parties' Substantive Response to Notice of Initiation,” dated September 2, 2020; “Five-Year (Fourth Sunset) Review of the Antidumping Duty Order on Certain Preserved Mushrooms from Indonesia—Domestic Interested Parties' Substantive Response to Notice of Initiation,” dated September 2, 2020; and “Five-Year (Sunset) Review of the Antidumping Duty Order on Certain Preserved Mushrooms from the People's Republic of China—Domestic Interested Parties' Substantive Response to Notice of Initiation,” dated September 2, 2020.

Scope of the Orders

The merchandise covered by the AD Orders is certain preserved mushrooms from Chile, India, Indonesia, and China. The subject merchandise is provided for in subheadings 2003.10.0127, 2003.10.0131, 2003.10.0137, 2003.10.0143, 2003.10.0147, 2003.10.0153, and 0711.51.0000 of the Harmonized Tariff Schedule of the United States (HTSUS). Although HTSUS subheadings are provided for convenience and customs purposes, the written description of the scope is dispositive. A full description of the scope of the AD Orders is contained in the accompanying Issues and Decision Memorandum.⁶

⁶ See Memorandum, “Issues and Decision Memorandum for the Expedited Sunset Reviews of the Antidumping Duty Orders on Certain Preserved Mushrooms from Chile, India, Indonesia, and the People's Republic of China, ” dated concurrently with, and hereby adopted by, this notice (Issues and Decision Memorandum).

Analysis of Comments Received

A complete discussion of all issues raised in these sunset reviews, including the likelihood of continuation or recurrence of dumping in the event of revocation of the AD Orders and the magnitude of the margins likely to prevail if the AD Orders were to be revoked, is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://enforcement.trade.gov/frn/. The signed and electronic versions of the Issues and Decision Memorandum are identical in content.

Final Results of Sunset Reviews

Pursuant to sections 751(c)(1) and 752(c)(1) and (3) of the Act, Commerce determines that revocation of the AD Orders on mushrooms from Chile, India, Indonesia, and China would be likely to lead to continuation or recurrence of dumping, and that the magnitude of the dumping margins likely to prevail would be weighted-average margins of up to 148.51 percent for Chile, 243.87 percent for India, 16.24 percent for Indonesia, and 198.63 percent for China.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective orders, is hereby requested. Failure to comply with the regulations and terms of an APO is a violation which is subject to sanction.

Notification to Interested Parties

We are issuing and publishing these final results and notice in accordance with sections 751(c), 752(c), and 777(i)(1) of the Act, and 19 CFR 351.218 and 19 CFR 351.221(c)(5)(ii).

Dated: November 30, 2020.
Jeffrey I. Kessler,
Assistant Secretary for Enforcement and Compliance.

Appendix

List of Topics Discussed in the Issues and Decision Memorandum

I. Summary

II. Background

III. Scope of the AD Orders

IV. History of the AD Orders

V. Legal Framework

VI. Discussion of the Issues

1. Likelihood of Continuation or Recurrence of Dumping

2. Magnitude of the Dumping Margins Likely to Prevail

VII. Final Results of Sunset Reviews

VIII. Recommendation

[FR Doc. 2020-26728 Filed 12-3-20; 8:45 am]

BILLING CODE 3510-DS-P